DEPARTMENT OF AGRICULTURE

Forest Service

Forest-Wide Integrated Weed Management, Lolo National Forest; Missoula, Mineral, Sanders, Granite, Lewis and Clark, Flathead, Ravalli, Lake and Powell Counties, MT

AGENCY: Forest Service, USDA.

ACTION: Revised Notice: intent to prepare an environmental impact statement (EIS).

SUMMARY: This is a revision of a Notice of Intent originally published in the Federal Register on August 4, 2004. This revision also hereby withdraws another Notice of Intent, originally published in the Federal Register on August 31, 2004, and incorporates that project into this one.

The original Notice of August 4, 2004 for the “Forest-Wide Integrated Weed Management” project stated the Forest Service would prepare an environmental impact statement to address noxious weeds on a maximum of 15,000 acres per year on the Lolo National Forest, using aerial and ground application of herbicides, biological and manual control methods.

The Notice of August 31, 2004 for the “Pattee Canyon Weed Management Project” stated the Forest Service would prepare an environmental impact statement to control invasive weeds on approximately 2,500 acres of land near Missoula, Montana, using aerial and ground applications of herbicides, biological control agents, and revegetation.

This revision withdraws the “Pattee Canyon Weed Management Project” as a separate project, and combines it into the “Forest-Wide Integrated Weed Management” project. The reason for the change is to make the analysis more efficient, because the “Pattee Canyon Weed Management Project” area is wholly within the “Forest-Wide Integrated Weed Management” project area, because the proposed weed management methods and aims are the same for both projects, and because undertaking two analyses would be less efficient.

The issues identified in the August 31, 2004 Federal Register Notice for the “Pattee Canyon Weed Management Project” included the effectiveness of the proposed treatments, potential risks to human health and safety associated with herbicides, and the potential adverse effects of herbicides on native vegetation.

The August 4, 2004 Federal Register Notice for the “Forest-Wide Integrated Weed Management” project did not list any specific issues. However, based on public scoping, the issues identified for the “Pattee Canyon Weed Management Project” apply to the “Forest-Wide Integrated Weed Management” project as well. The public comments received for the “Pattee Canyon Weed Management Project” will be incorporated into the “Forest-Wide Integrated Weed Management” project. The August 4, 2004 Federal Register Notice is hereby amended to include them.

The August 4, 2004 Notice is further amended to also include the following additional issues:

1. Recognizing that invasive weeds are spreading rapidly in Western Montana, what effect will invasive weeds have on wildlife and native plant communities?

2. What potential adverse effects might herbicides have on wildlife, fish and water quality?

DATES: Comments concerning this revision should be received in writing within 30 days of this Notice's publication. Persons who have already commented on either the original Notices of Intent do not need to resubmit those comments.

ADDRESSES: The responsible official is Deborah L. R. Austin, Forest Supervisor, Lolo National Forest, Supervisor's Office, Building 24, Fort Missoula; Missoula, MT 59804. Phone (406) 329-3797.

FOR FURTHER INFORMATION CONTACT: Andy Kulla, Resource Assistant, Missoula Ranger District, at (406) 329-3962. Please direct written comments to him at Missoula Ranger District; Building 24A, Fort Missoula; Missoula, MT 59804.

SUPPLEMENTARY INFORMATION: Further information about the proposal can be found in the original Notice of Intent. Another formal opportunity to comment will be provided following completion of the Draft Environmental Impact Statement (DEIS). The DEIS will be available for public review by the fall of 2005. The Final Environmental Impact Statement (FEIS) will be filed by the fall of 2006. The responsible official will make a decision on this proposal after considering comments and responses, environmental consequences discussed in the FEIS and applicable laws, regulations and policies. The decision and reasons for the decision will be documented in a Record of Decision.

Dated: March 22, 2005.
Deborah L.R. Austin,
Forest Supervisor, Lolo National Forest.

[FR Doc. 05-6785 Filed 4-5-05; 8:45 am]

BILLING CODE 3410-11-M